DEPARTMENT OF ENERGY

Federal Energy Regulatory Commission

[Project No. 199-205]

South Carolina Public Service Authority; Notice of Meeting to Discuss Santee-Cooper Biological Opinion

On July 15, 2010, the National Marine Fisheries Service (NMFS) filed its Biological Opinion (BO) on the relicensing of the Santee-Cooper Hydroelectric Project No. 199. The document included NMFS' terms and conditions for protection of the endangered shortnose and Atlantic sturgeon. Commission staff, the South Carolina Public Service Authority (SCPSA), the South Carolina Department of National Resources, and U.S. Army Corps of Engineers filed comments on the draft BO in September 2010. Several meetings and workshops were held in 2011 and 2012 to discuss what is needed to complete formal consultation for the two sturgeon species.

At the request of NMFS, Commission staff will meet with representatives of NMFS and SCPSA, the Commission's non-federal representative for the Santee-Cooper Project, to continue the on-going discussions of what is needed to complete formal consultation for the shortnose and Atlantic sturgeon. The meeting will be held on Thursday, September 19, 2013, from 9:00 a.m. to 5:00 p.m. at NMFS' office at 263 13th Avenue South, St. Petersburg, Florida. All local, state, and federal agencies, and interested parties, are hereby invited to attend and observe this meeting. Questions concerning the meeting should be directed to Robert Hoffman of NMFS at (727) 824-5312.

Dated: August 20, 2013.
Kimberly D. Bose,
Secretary.

[FR Doc. 2013-20923 Filed 8-27-13; 8:45 am]

BILLING CODE 6717-01-P